DEPARTMENT OF HOUSING AND URBAN DEVELOPMENT

[Docket No. FR-5793-N-01]

Notice of Calendar Year (CY) 2014 Annual Factors for Determining Public Housing Agency Administrative Fees for the Section 8 Housing Choice Voucher and Moderate Rehabilitation Programs

AGENCY: Office of the Assistant Secretary for Public and Indian Housing, HUD.

ACTION: Notice.

SUMMARY: This Notice announces the monthly per unit fee amounts for use in determining the on-going administrative fee for housing agencies administering the rental voucher and moderate rehabilitation programs, including Single Room Occupancy during CY 2014.

DATES: Effective Date: January 1, 2014.

FOR FURTHER INFORMATION CONTACT: Miguel Fontanez, Director, Housing Voucher Financial Management Division, Office of Public Housing and Voucher Programs, Office of Public and Indian Housing, Department of Housing and Urban Development, Room 4222, 451 Seventh Street SW., Washington, DC 20410-8000, telephone number 202-402-2934. (This is not a toll-free number). Hearing or speech impaired individuals may call TTY number 1 (800) 877-8337.

SUPPLEMENTARY INFORMATION:

Purpose and Substantive Description

This Notice provides the Department's methodology to determine the CY 2014 administrative fees rates by area, which the Office of Housing Voucher Program (OHVP) will utilize to compensate public housing authorities (PHAs) for administering the Housing Choice Voucher (HCV) programs. The PIH Notice 2014-05, Implementation of the Federal Fiscal Year (FY) 2014 Funding Provision for the Housing Choice Voucher Program,¹ issued on March 18, 2014, describes the settlement process for this compensation, which will be a result of the mandate enacted in the “Consolidated Appropriations Act, 2014” (Pub. L. 113-76), signed on January 17, 2014.

¹ PIH Notice 2014-05 can be found at: http://portal.hud.gov/hudportal/HUD?src=/program_offices/administration/hudclips/notices/pih.

B. FY 2014 Methodology

For CY 2014, in accordance with the Consolidated Appropriations Act, 2014, administrative fees will be paid on the basis of units leased as of the first day of each month; this data will be extracted from the Voucher Management System (VMS) at the close of each reporting cycle.

As noted in the attachment to this notice, two fee rates are provided for each public housing authority (PHA). The first rate, Column A, applies to the first 7200 unit months leased in CY 2014. The second rate, Column B, applies to all remaining unit months leased in CY 2014. In years prior to CY 2010, a Column C rate was also provided, which applied to all unit months leased in units owned by the PHA. For CY 2014 there are no Column C administrative fee rates. Fees for leasing PHA-owned units will be earned in the same manner and at the same Column A and Column B rates as for all other leasing.

Administrative fees are updated annually using the change in average wages for local government workers in each State metropolitan and non-metropolitan portion. Data on average wages come from the Bureau of Labor Statistics (BLS) Quarterly Census of Employment and Wages (QCEW) program.

The fee rates calculated for CY 2014, using the standard procedure described above, in many cases resulted in rates lower than those provided for CY 2013. In those cases, the affected PHAs are being held harmless at the CY 2013 rates.

The fee rates for each PHA are generally those rates covering the areas in which each PHA has the greatest proportion of its participants, based on Public Housing Information Center (PIC) data. In some cases, PHAs have participants in more than one fee area. If a PHA so chooses, the PHA may request that the Department establish a blended fee rate schedule that will consider proportionately all areas in which participants are located. Once a blended rate schedule is calculated, it will be used to determine the PHA's fee eligibility for all months of CY 2014. A PHA that received a blended fee rate schedule for 2013 will not receive it automatically for 2014; it must be requested. Requests for blended fee rates for CY 2014 were due on April 15, 2014, per instructions provided in the CY 2014 HCV Funding Implementation Notice, PIH 2014-05, published on March 18, 2014. HUD will evaluate the requests and will notify housing agencies of the results during the month of July, 2014.

These fee rates also apply to the Moderate Rehabilitation program and the 5-Year Mainstream Program.

Paperwork Reduction Act Statement

The information collection requirements contained in this document are pending the approval by the Office of Management and Budget (OMB) in accordance with the Paperwork Reduction Act of 1995 (44 U.S.C. 3501-3520), and have been assigned OMB control number 2502-0348. In accordance with the Paperwork Reduction Act, HUD may not conduct or sponsor, and a person is not required to respond to, a collection of information unless the collection displays a currently valid control number.

Accordingly, the Department publishes the monthly per unit fee amount to be used for determining PHA administrative fees under the Housing Choice Voucher and Moderate Rehabilitation programs as set forth on the schedule appended to this notice.

The fee rates are posted on HUD's Web site at: http://portal.hud.gov/hudportal/HUD?src=/program_offices/public_indian_housing/programs/hcv.

Dated: June 26, 2014.
Sandra B. Henriquez,
Assistant Secretary for Public and Indian Housing.

[FR Doc. 2014-15712 Filed 7-2-14; 8:45 am]

BILLING CODE 4210-67-P